COMMISSION ON CIVIL RIGHTS

Sunshine Act Notice

AGENCY: United States Commission on Civil Rights.

ACTION: Notice of briefing and meeting.

Date and Time: Friday, September 12, 2008; 9:30 a.m.

Place: 624 Ninth Street, NW., Rm. 540, Washington, DC 20425.

Briefing Agenda

Topic: Encouraging Minority Students To Pursue Careers in Science, Technology, Engineering and Math

I. Introductory Remarks by Chairman

II. Speakers' Presentations

III. Questions by Commissioners and Staff Director

IV. Adjourn Briefing

Meeting Agenda

I. Approval of Agenda

II. Approval of Minutes

• July 11, 2008 Meeting

• August 19, 2008 Meeting

• September 6, 2008 Meeting

III. Announcements

IV. Staff Director's Report

V. Program Planning

• FY 2008 Statutory Report: Enforcing Prohibitions of Religious Discrimination in Prison

• FY 2009 Briefing Topics

• FY 2009 Statutory Report

VI. Future Agenda Items

VII. Adjourn

CONTACT PERSON FOR FURTHER INFORMATION: Lenore Ostrowsky, Acting Chief, Public Affairs Unit (202) 376-8582.

Dated: September 3, 2008.
David Blackwood,
General Counsel.

[FR Doc. E8-20740 Filed 9-3-08; 4:15 pm]

BILLING CODE 6335-01-P